DEPARTMENT OF HEALTH AND HUMAN SERVICES

Centers for Disease Control and Prevention

[30Day-10-10AK]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

National Notifiable Condition Messaging Support Strategy—New—Public Health Surveillance Program Office (PHSPO); Office of Surveillance, Epidemiology, and Laboratory Services (OSELS), Centers for Disease Control and Prevention, (CDC).

Background and Brief Description

The Public Health Services Act (42 U.S.C. 241) authorizes CDC to disseminate nationally notifiable condition information. CDC's Morbidity and Mortality Weekly Report publishes incidence tables for nationally notifiable conditions reported through the National Electronic Disease Surveillance System (NEDSS) and other surveillance data sources to the National Notifiable Diseases Surveillance System (NNDSS).

NEDSS (OMB 0920-0728, expiration date: 2/28/2010) is an internet-based infrastructure for public health surveillance data exchange that uses specific Public Health Information Network (PHIN) and NEDSS electronic data and information standards to advance the development of efficient, integrated, and interoperable surveillance systems at federal, state and local levels. CDC's proposed Public Health Surveillance Program Office (PHSPO) is responsible for establishing and managing the national reporting system of epidemiologic data for notifiable conditions (diseases) via NEDSS.

Case notification messaging for most of the nationally notifiable conditions (77 infectious conditions as of August 2009) will eventually be supported by the standard Health Level 7 v2.5 (HL7) message format. The HL7 message format requires a Message Mapping Guide (MMG)—developed by the NEDSS and NNDSS programs, in collaboration with state and federal subject matter experts—to implement case notification to CDC via NEDSS. At present, seven MMGs are available for implementation by jurisdictions, and current NEDSS resources support the development of three new MMGs per year. A jurisdiction's implementation of a MMG requires an average of four months per MMG, and a jurisdiction could potentially implement up to three MMGs a year. In most instances, National Center for Public Health Informatics' (NCPHI) programmatic and technical expertise is required to support this process at the jurisdictional level.

The National Notifiable Condition Messaging Support Strategy Questionnaire has been developed by the NEDSS program to gather information needed for formulating a technical and project management support strategy for 57 reporting jurisdictions (i.e., 50 states, 5 territories, and 2 cities (New York City, NY and Washington, DC)) as they implement NEDSS messaging using MMGs. A jurisdiction's response to the questionnaire will be used by the NEDSS implementation and management teams to assess the jurisdiction's IT system environment and capacity and help determine the project schedule and level of human and technical support needed to complete the jurisdiction's implementation of a nationally notifiable condition message. NEDSS infrastructure implementation support includes, but is not limited to implementing NEDSS Message Subscription Service (MSS) and NEDSS Messaging Solution (NMS) software in requesting jurisdictions; providing MSS and NMS software training and ongoing technical support; and distributing funding via the CDC Epidemiology and Laboratory Capacity cooperative agreement.

Questionnaires will be distributed to jurisdictions that initiate MMG implementation for a condition; therefore, the maximum annual frequency of responses per jurisdiction is three. The NEDSS team will request the jurisdiction to voluntarily complete the questionnaire, but a response is not a pre-requisite for support.

There is no cost to respondents other than their time to participate in the survey. The total estimated annual burden hours are 114.

Estimate of Annualized Burden Hours
Respondents | Form name | Number of respondents | Number of responses per respondent | Average burden per response (in hours)
State, Territory and Local Public Health Department | National Notifiable Condition Messaging Support Strategy Questionnaire | 57 | 3 | 40/60

Dated: August 23, 2010.
Maryam I. Daneshvar,
Reports Clearance Officer, Centers for Disease Control and Prevention.

[FR Doc. 2010-21497 Filed 8-27-10; 8:45 am]

BILLING CODE 4163-18-P